DEPARTMENT OF DEFENSE

Department of the Army, Corps of Engineers

Intent To Prepare a Draft Supplemental Environmental Impact Statement for the Springfield Supplemental Water Supply Project

AGENCY: Department of the Army, U.S. Army Corps of Engineers, DOD.

ACTION: Notice of intent.

SUMMARY: The United States Army Corps of Engineers (Corps) intends to prepare a Supplemental Environmental Impact Statement (SEIS) to address the proposed Springfield Supplemental Water Supply Project (previously referred to as the Proposed Water Supply Reservoir Hunter Lake) in Sangamon County, IL. The Corps, working in conjunction with the City of Springfield, Office of Public Utilities, also known as the City Water, Light & Power (City), prepared an Environmental Impact Statement (EIS) in accordance with the National Environmental Policy Act (NEPA) of 1969 [42 U.S.C. 4321 et. seq.] that evaluated a range of alternatives to provide supplemental water supply to meet a projected deficit in water availability. A final EIS was prepared and published in November of 2000. The Final EIS (EIS No. 000402) was published in the Federal Register on November 24, 2000; however, no Record of Decision was issued.

The City has conducted an updated water demand analysis that demonstrates a sustained need for additional water supply to meet current and future demands. In accordance with Council on Environmental Quality (CEQ) regulations specified in 40 CFR 1502.9, the Corps in conjunction with the City are initiating the preparation of an EIS supplement.

DATES: Comments must be received on or before September 14, 2016.

ADDRESSES: Written comments should be sent to ATTN: Regulatory Branch, U.S. Army Corps of Engineers, Rock Island District, Clock Tower Building, P.O. Box 2004, Rock Island, IL 61204-2004. Comments also may be submitted to cemvr-odpublicnotice@usace.army.mil.

FOR FURTHER INFORMATION CONTACT: Questions, about the proposed action or SEIS should be addressed to cemvr-odpublicnotice@usace.army.mil.

SUPPLEMENTARY INFORMATION:

(1) Background

The City operates an integrated water supply, purification, transmission, and distribution system. The City's service area encompasses approximately 100 square miles with more than 52,600 service connections and a population of about 147,000. The City's current source of water is Lake Springfield that was constructed in the 1930s. The lake serves as the water source for its drinking water supply and the cooling water supply for the City's coal-fired power generating station. As a result of drought conditions in 1953-1955, the City constructed a movable low head dam across the South Fork of the Sangamon River to supplement the Lake Springfield water supply during low lake levels. On July 26, 1989, the City submitted a joint permit application for construction of Hunter Lake Reservoir to the Corps and the Illinois Environmental Protection Agency (IEPA). A Notice of Intent to prepare a Draft EIS for the construction of the Hunter Lake Reservoir was published by the Corps in the Federal Register on October 31, 1989. A final EIS was published in 2000 and the construction of the Hunter Lake Reservoir was identified as the preferred alternative.

On December 17, 2010, the Corps provided a letter to the City formally determining the need for a SEIS. The Corps identified areas in the SEIS where information should be updated, such as water demand analysis, threatened and endangered species bat surveys, wetland delineations, programmatic agreement related to cultural resources, water quality anti-degradation analysis, and mitigation plans.

(2) Project Need

Based on an analysis of the storage and capacity, the Illinois State Water Survey had determined that Lake Springfield is an inadequate supply system with a 50% probability of not meeting expected water supply demands. Under conditions of reduced water availability the City is at risk of not meeting demands (both existing and future) for commercial and residential water use, and for industrial water supply (power plant operation and condenser cooling). Under projected drought conditions the estimated water deficit (demand minus yield) is currently 8.2 million gallons per day (MGD), whereas future deficits (year 2065) are projected at 11.3 MGD.

Other associated regional needs have also been identified that may potentially be addressed by the City's proposed project. Specifically, the following regional needs are also recognized:

• Increased demand for regional outdoor recreational areas that provide additional fishing and hunting opportunities

• Provide supplemental water supply for adjacent communities

• Increased water supply to support regional economic development

(3) Proposed Action

The proposed Federal action is the issuance of a permit by the Corps pursuant to Section 404 of the Clean Water Act in support of the development of the selected water supply alternative. The Corps is neither a proponent nor an opponent of the City's supplemental water supply project. The City is the project proponent and will evaluate all reasonable development of a supplemental water supply for municipal, commercial, and industrial customers.

(4) Alternatives

In accordance with requirements of CEQ regulations 40 CFR 1502.14, and the provisions of Section 404(b)(1) of the Clean Water Act, the SEIS will evaluate all appropriate and reasonable alternatives to the proposed project. The SEIS will review all alternatives previously assessed in the FEIS and will include an analysis of reasonable alternatives consisting of the following:

• No Action Alternative,

• Development of a new water supply reservoir,

• Development of groundwater well systems with associated pump stations and pipelines,

• Use of other existing surface water reservoirs,

• Dredging of Lake Springfield.

Consideration of conservation measures is inherent in the City's on-going objectives to optimize the efficiency of it water supply systems and is therefore inherent in each of the alternatives under evaluation.

(5) Scoping Process

The Corps is furnishing this notice to: (1) Advise other Federal and state agencies, affected Tribes, and the public of the proposed project; (2) announce the initiation of a 30-day scoping period; and (3) obtain suggestions and information on the scope of issues and alternatives to be included in the Draft SEIS. The Corps invites comments from all interested parties to ensure the full range of issues related to the permit request is addressed and that all significant issues are identified.

The SEIS will provide updated supporting data where needed, review the purpose and need, evaluate alternatives, and assess impacts of reasonable alternatives resulting from the development of a supplemental water supply system for the city. Potentially affected resources include: Agricultural land, threatened and endangered species, wildlife, water resources, wetlands and floodplains; forested areas, transportation, recreation and potentially historic properties. Preliminary measures to minimize harm will be developed as part of this study. The public's views on the scope of the alternatives that should be addressed in the SEIS will also be considered in the preparation of the SEIS.

(6) Public Participation

A public scoping meeting will be held on August 24, 2016 from 5:00-8:00 p.m. at the State Journal-Register, 1 Copley Plaza, Springfield, IL. The public is invited to submit comments on the scope of this SEIS no later than the date identified in the DATES section of this notice. After the Corps prepares a draft of the SEIS, the Corps will release it for public comment. The Corps anticipates holding a public meeting in Springfield after release of the draft SEIS during the public comment period. Meeting details will be posted on the City of Springfield's Web site and published in local newspapers. The release of the Draft SEIS is anticipated for the first quarter of 2017.

Dated: August 3, 2016.
Craig S. Baumgartner
Colonel, US Army Commander & District Engineer.

[FR Doc. 2016-19353 Filed 8-12-16; 8:45 am]

BILLING CODE 3720-58-P